DEPARTMENT OF COMMERCE

National Oceanic and Atmospheric Administration

[RTID 0648-XB749]

North Pacific Fishery Management Council; Public Meeting

AGENCY: National Marine Fisheries Service (NMFS), National Oceanic and Atmospheric Administration (NOAA), Commerce.

ACTION: Notice of web conference.

SUMMARY: The North Pacific Fishery Management Council's (Council) Scallop Plan Team will meet February 16, 2022.

DATES: The meeting will be held on Wednesday, February 16, 2022, from 9 a.m. to 5 p.m., Alaska Time.

ADDRESSES: The meeting will be a web conference. Join online through the link at https://meetings.npfmc.org/Meeting/Details/2755.

Council address: North Pacific Fishery Management Council, 1007 W 3rd Ave, Anchorage, AK 99501-2252; telephone: (907) 271-2809. Instructions for attending the meeting via video conference are given under SUPPLEMENTARY INFORMATION.

FOR FURTHER INFORMATION CONTACT: Sarah Rheinsmith, Council staff; phone: (907) 271-2809; email: sarah.rheinsmith@noaa.gov. For technical support, please contact our admin Council staff, email: npfmc.admin@noaa.gov.

SUPPLEMENTARY INFORMATION:

Agenda

Wednesday, February 16, 2022

The Council's Scallop Plan Team will update the status of the Alaska weathervane scallop stocks and the Stock Assessment and Fishery Evaluation (SAFE) report, including OFL/ABC recommendations for the 2022 fishing year. Additionally, there will be discussion of 2021 survey results, stock assessment development, EFH updates, survey plans for 2022, a review of research priorities, and other business. The agenda is subject to change, and the latest version will be posted at https://meetings.npfmc.org/Meeting/Details/2755 prior to the meeting, along with meeting materials.

Connection Information

You can attend the meeting online using a computer, tablet, or smart phone; or by phone only. Connection information will be posted online at: https://meetings.npfmc.org/Meeting/Details/2755.

Public Comment

Public comment letters will be accepted and should be submitted electronically to https://meetings.npfmc.org/Meeting/Details/2755.

Authority: 16 U.S.C. 1801 et seq.

Dated: January 24, 2022.
Tracey L. Thompson,
Acting Deputy Director, Office of Sustainable Fisheries, National Marine Fisheries Service.

[FR Doc. 2022-01657 Filed 1-26-22; 8:45 am]

BILLING CODE 3510-22-P